DEPARTMENT OF THE INTERIOR

National Park Service

[NPS-WASO-NAGPRA-22424; PPWOCRADN0-PCU00RP14.R50000]

Notice of Inventory Completion: U.S. Department of Agriculture, Forest Service, Tongass National Forest, Craig Ranger District, Craig, AK

AGENCY: National Park Service, Interior.

ACTION: Notice.

SUMMARY: The U.S. Department of Agriculture, Forest Service (Forest Service) has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Tongass National Forest, Craig Ranger District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Tongass National Forest at the address in this notice by January 3, 2017.

ADDRESSES: Earl Stewart, Tongass National Forest Supervisor, 648 Mission Street Federal Building, Ketchikan, AK 99901-6591, telephone (907) 225-3101, email estewart@fs.fed.us.

SUPPLEMENTARY INFORMATION: Notice is here given in accordance with the Native American Graves Protection and Repatriation Act (NAGPRA), 25 U.S.C. 3003, of the completion of an inventory of human remains and associated funerary objects under the control of the Forest Service, Tongass National Forest, Craig Ranger District. The human remains and associated funerary objects were removed from the Staney Creek area of Prince of Wales Island, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Forest Service professional staff using details provided from the Canadian Museum of History and in consultation with representatives of Craig Tribal Association (previously listed as the Craig Community Association), Hydaburg Cooperative Association, Klawock Cooperative Association, and the Organized Village of Kasaan.

History and Description of the Remains

In 1973, human remains representing, at minimum, one individual were removed from the Staney Creek area on Prince of Wales Island, AK. The human remains were removed from Forest Service-managed lands by members of the United States Geological Survey, Department of the Interior. In 1974, the human remains were sent to the Canadian Museum of Civilization Corporation for analysis. The analysis indicated the human remains were from 185 to 385 years old. In September of 2014, the Forest Service took possession of the remains and funerary object from the museum and took them to the Craig Ranger District. No known individuals were identified. The one associated funerary object is a piece of wood that was found with the human remains.

Cultural affiliation of the human remains and associated funerary objects was based on multiple lines of evidence, including consultation with the Klawock Cooperative Association and a published source, Haa Aani, Our Land: Tlingit and Haida Land Rights and Use by Walter Goldschmidt and Theodore H. Haas, edited by Thomas F. Thornton, first issued in 1948, reprinted in 1988, by the Sealaska Heritage Association. The human remains were removed from an area defined in Haa Aani and by the tribe as culturally affiliated with the Klawock Cooperative Association.

Determinations Made by the Forest Service, Tongass National Forest

Officials of the Forest Service, Tongass National Forest have determined that:

• Pursuant to 25 U.S.C. 3001(9), the human remains described in this notice represent the physical remains of one individual of Native American ancestry.

• Pursuant to 25 U.S.C. 3001(3)(A), the one object described in this notice are reasonably believed to have been placed with or near individual human remains at the time of death or later as part of the death rite or ceremony.

• Pursuant to 25 U.S.C. 3001(2), there is a relationship of shared group identity that can be reasonably traced between the Native American human remains and associated funerary object and the Klawock Cooperative Association.

Additional Requestors and Disposition

Lineal descendants or representatives of any Indian tribe or Native Hawaiian organization not identified in this notice that wish to request transfer of control of these human remains and associated funerary objects should submit a written request with information in support of the request to Tongass National Forest Supervisor Earl Stewart, 648 Mission Street Federal Building, Ketchikan, AK 99901-6591, phone number (907) 225-3101, email estewart@fs.fed.us, by January 3, 2017. After that date, if no additional requestors have come forward, transfer of control of the human remains and associated funerary objects to Klawock Cooperative Association may proceed.

The Forest Service is responsible for notifying the Craig Tribal Association (previously listed as the Craig Community Association), Klawock Cooperative Association, Hydaburg Cooperative Association, and the Organized Village of Kasaan that this notice has been published.

Melanie O'Brien,
Manager, National NAGPRA Program

[FR Doc. 2016-28958 Filed 12-1-16; 8:45 am]

BILLING CODE 4312-52-P